DEPARTMENT OF DEFENSE

Department of the Army

Availability of U.S. Patents for Non-Exclusive, Exclusive, or Partially-Exclusive Licensing

AGENCY: U.S. Army Research Laboratory, DoD.

ACTION: Notice.

SUMMARY: In accordance with 37 CFR 404.6, announcement is made of the availability of the following U.S. patent for non-exclusive, partially exclusive or exclusive licensing. The listed patent has been assigned to the United States of America as represented by the Secretary of the Army, Washington, D.C.

This patent covers a wide variety of technical arts including: An Electromagnetic Locomotion Platform for use ion simulated environments, A One-Step Resin Transfer Molding Process, and A Method of Tailoring Susceptors for Use in Induction Heating and Bonding systems.

Under the authority of Section 11(a)(2) of the Federal Technology Transfer Act of 1986 (Public Law 99-502) and Section 207 of Title 35, United States Code, the Department of the Army as represented by the U.S. Army Research laboratory wish to license the U.S. patent listed below in a non-exclusive, exclusive or partially exclusive manner to any party interested in manufacturing, using, and/or selling devices or processes covered by this patent.

Title: Electromagnetic Locomotion Platform for Translation and Total Immersion of Humans into Virtual Environments.

Inventor: Jim Faughn.

Patent Number: 6,050,822.

Issued Date: April 18, 2000.

Title: One-Step Resin Transfer Molding of Multifunctional Composites Consisting of Multiple Resins.

Inventors: Bruce K. Fink, John Gillespie, Emanuele Gillio and Karl Bernetich.

Patent Number: 6,048,488.

Issued Date: April 11, 2000.

Title: Tailored Mesh Susceptors for Uniform Induction Heating, Curing and Bonding of Materials.

Inventors: Bruce K. Fink, John W. Gillespie, Jr. and Shridhar Yarlagadda.

Patent Number: 6,043,469.

Issued Date: March 28, 2000.

FOR FURTHER INFORMATION CONTACT: Michael Rausa, Technology Transfer Office, AMSRL-CS-TT, U.S. Army Research Laboratory, Aberdeen Proving Ground, MD 21005-5055 tel: (410) 278-5028; fax: (410) 278-5820.

SUPPLEMENTARY INFORMATION: None.

Gregory D. Showalter,
Army Federal Register Liaison Officer.

[FR Doc. 00-17504 Filed 7-10-00; 8:45 am]

BILLING CODE 3710-08-M